DEPARTMENT OF HOMELAND SECURITY

Federal Emergency Management Agency

[Docket ID FEMA-2022-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP).

DATES: The date of February 23, 2023 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Assistant Administrator for Risk Management (Acting), Federal Emergency Management Agency, Department of Homeland Security.

Community | Community map repository address
Bartholomew County, Indiana and Incorporated Areas
Docket Nos.: FEMA-B-1804 and FEMA-B-2174
City of Columbus | City of Columbus-Bartholomew County Planning Department, 123 Washington Street, Suite 8, Columbus, IN 47201.
Town of Hope | Town Hall, 404 Jackson Street, Hope, IN 47246.
Unincorporated Areas of Bartholomew County | City of Columbus-Bartholomew County Planning Department, 123 Washington Street, Suite 8, Columbus, IN 47201.
LaSalle Parish, Louisiana and Incorporated Areas
Docket No.: FEMA-B-2127
Town of Jena | Town Hall, 2908 East Oak Street, Jena, LA 71342.
Town of Olla | Town Hall, 1907 Louisiana Street, Olla, LA 71465.
Town of Tullos | LaSalle Parish Courthouse, 1050 Courthouse Street, Room 13, Jena, LA 71342.
Town of Urania | Town Hall, 2021 East Hardtner Drive, Urania, LA 71480.
Unincorporated Areas of LaSalle Parish | LaSalle Parish Courthouse, 1050 Courthouse Street, Room 13, Jena, LA 71342.
Kent County, Michigan (All Jurisdictions)
Docket No.: FEMA-B-2138
Charter Township of Caledonia | Township Hall, 8196 Broadmoor Avenue Southeast, Caledonia, MI 49316.
Charter Township of Cascade | Cascade Charter Township Office, 5920 Tahoe Drive Southeast, Grand Rapids, MI 49546.
Charter Township of Gaines | Gaines Charter Township Office, 8555 Kalamazoo Avenue Southeast, Caledonia, MI 49316.
Charter Township of Grand Rapids | Township Hall, 1836 East Beltline Avenue Northeast, Grand Rapids, MI 49525.
Charter Township of Lowell | Township Hall, 2910 Alden Nash Avenue Southeast, Lowell, MI 49331.
Charter Township of Plainfield | Plainfield Charter Township Hall, 6161 Belmont Avenue Northeast, Belmont, MI 49306.
City of Cedar Springs | City Hall, 66 South Main Street, Cedar Springs, MI 49319.
City of East Grand Rapids | Community Center, 750 Lakeside Drive Southeast, East Grand Rapids, MI 49506.
City of Grand Rapids | City Hall, 300 Monroe Avenue Northwest, Grand Rapids, MI 49503.
City of Grandville | City Hall, 3195 Wilson Avenue Southwest, Grandville, MI 49418.
City of Kentwood | City Hall Engineering Department, 4900 Breton Avenue Southeast, Kentwood, MI 49508.
City of Lowell | City Hall, 301 East Main Street, Lowell, MI 49331.
City of Rockford | City Hall, 7 South Monroe Street, Rockford, MI 49341.
City of Walker | Engineering Department City Hall, 4243 Remembrance Road Northwest, Walker, MI 49534.
City of Wyoming | City Hall, 1155 28th Street Southwest, Wyoming, MI 49509.
Township of Ada | Township Hall, 7330 Thornapple River Drive, Ada, MI 49301.
Township of Algoma | Algoma Township Office, 10531 Algoma Avenue Northeast, Rockford, MI 49341.
Township of Alpine | Alpine Township Hall, 5255 Alpine Avenue Northwest, Comstock Park, MI 49321.
Township of Byron | Byron Township Hall, 8085 Byron Center Avenue Southwest, Byron Center, MI 49315.
Township of Cannon | Cannon Township Center, 6878 Belding Road, Rockford, MI 49341.
Township of Solon | Solon Township Offices, 15185 Algoma Avenue Northeast, Cedar Springs, MI 49319.
Township of Sparta | Township Hall, 160 East Division Street, Sparta, MI 49345.
Township of Tyrone | Tyrone Township Hall, 28 East Muskegon Street, Kent City, MI 49330.
Township of Vergennes | Vergennes Township Hall, 69 Lincoln Lake Avenue Northeast, Lowell, MI 49331.
Village of Casnovia | Village Hall, 141 North Main Street, Casnovia, MI 49318.
Village of Kent City | Village Office, 83 Spring Street, Kent City, MI 49330.
Village of Sparta | Village Hall, 156 East Division Street, Sparta, MI 49345.
Manitowoc County, Wisconsin and Incorporated Areas
Docket No.: FEMA-B-2126
City of Manitowoc | City Hall, 900 Quay Street, Manitowoc, WI 54220.
City of Two Rivers | City Hall, 1717 East Park Street, Two Rivers, WI 54241.
Unincorporated Areas of Manitowoc County | Manitowoc County Courthouse, 1010 South 8th Street, Manitowoc, WI 54220.
Village of Cleveland | Village Hall, 1150 West Washington Avenue, Cleveland, WI 53015.

[FR Doc. 2022-22130 Filed 10-11-22; 8:45 am]

BILLING CODE 9110-12-P